ENVIRONMENTAL PROTECTION AGENCY

[FRL-7019-6]

Proposed Administrative Cost Recovery Agreement Under CERCLA Section 122(h) for Recovery of Past Costs at the Bel-Fab Manufacturing Corp. Superfund Site, Town of Halfmoon, Saratoga County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given of a proposed administrative settlement entered into pursuant to section 122(h) of CERCLA, 42 U.S.C. 9622(h), for recovery of past response costs concerning the Bel-Fab Manufacturing Corp. Superfund Site (“Site”) located in the Town of Halfmoon, Saratoga County, New York. This settlement with the U.S. Environmental Protection Agency (“EPA” or the “Agency”) has been entered into with the following parties: Bray Terminals, Inc., International CMP Industries. Ltd., Crane & Company, Inc., Daniel Green Co., Farrell Oil Co., Inc., E+E (US) Inc., Kramer Chemicals Division, General Electric Company, Hasbro, Inc., Heritage Energy Co., Mirabito Fuel Group, Monsey Products Co., Saint-Gobain Performance Plastics (formerly Norton Performance Plastics Corporation), Tumble Forms, Inc., the U.S. Department of the Army (Watervliet Arsenal), and W.R. Grace & Co. (the “Settling Parties”). The settlement requires the Settling Parties to pay $108,190.67 plus interest as provided in the Agreement. The settlement includes a covenant not to sue for the private settling parties, and a covenant not to take administrative action as to the Department of the Army, pursuant to section 107(a) of CERCLA, 42 U.S.C. 9607(a), for recovery of past response costs as defined by the Agreement. For thirty (30) days following the date of publication of this notice, EPA will receive written comments relating to the settlement. The Agency will consider all comments received and may modify or withdraw its consent to the settlement if comments received disclose facts or considerations that indicate that the proposed settlement is inappropriate, improper, or inadequate. The Agency's response to any comments received will be available for public inspection at the EPA, Region II, 290 Broadway, New York, New York 10007-1866.

DATES: Comments must be submitted on or before August 29, 2001.

ADDRESSES: The proposed settlement is available for public inspection at the United States Environmental Protection Agency, 290 Broadway, New York, New York 10007-1866. A copy of the proposed settlement may be obtained from Liliana Villatora, Assistant Regional Counsel, New York/Caribbean Superfund Branch, Office of Regional Counsel, 17th Floor, 290 Broadway, New York, New York 10007-1866. Comments should reference the Bel-Fab Manufacturing Corp. Superfund Site, Town of Halfmoon, Saratoga County, New York. Requests for a copy of the agreement should reference Docket No. CERCLA-02-2001-2011. Any comments or requests should be addressed to Liliana Villatora, Assistant Regional Counsel, Office of Regional Counsel, U.S. Environmental Protection Agency, 290 Broadway, 17th floor, New York, New York 10007-1866.

FOR FURTHER INFORMATION CONTACT: Liliana Villatora, Assistant Regional Counsel, New York/Caribbean Superfund Branch, Office of Regional Counsel, U.S. Environmental Protection Agency, 17th Floor, 290 Broadway, New York, New York 10007-1866. Telephone: 212-637-3248.

Dated: July 6, 2001.
William J. Muszynski,
Acting Regional Administrator, Region II.

[FR Doc. 01-18889 Filed 7-27-01; 8:45 am]

BILLING CODE 6560-50-P